DEPARTMENT OF HOMELAND SECURITY

Transportation Security Administration

New Agency Information Collection Activity Under OMB Review: Public Transportation Baseline Assessment for Security Enhancement (BASE) Program

AGENCY: Transportation Security Administration, DHS.

ACTION: 30-day notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on May 30, 2012, 77 FR 31866. TSA received two comments unrelated to the ICR in response to this notice. This voluntary information collection allows TSA to conduct transportation security-related assessments during site visits with security and operating officials of transit agencies.

DATES: Send your comments by December 31, 2012. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Susan L. Perkins, TSA PRA Officer, Office of Information Technology (OIT), TSA-11, Transportation Security Administration, 601 South 12th Street, Arlington, VA 20598-6011; telephone (571) 227-3398; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Public Transportation Systems Baseline Assessment for Security Enhancement (BASE) Program.

Type of Request: New collection.

OMB Control Number: Not yet assigned.

Form(s): BASE electronic checklist.

Affected Public: Public Transportation Agencies, including buses, rail transit, long-distance rail, and other, less common types of service (cable cars, inclined planes, funiculars, and automated guide way systems).

Abstract: TSA's Public Transportation Systems BASE program was developed to evaluate a transit system/assets security posture through voluntary site visits with security and operating officials of public transportation systems. This program will allow TSA to expand its awareness and understanding of transportation modes and asset security postures in order to enable more effective targeting of security programs and technical assistance to evaluate security, and facilitate sharing of best security practices.

Number of Respondents: 140.

Estimated Annual Burden Hours: An estimated 6,440 hours annually.

Issued in Arlington, Virginia, on November 21, 2012.
Susan L. Perkins,
TSA Paperwork Reduction Act Officer, Office of Information Technology.

[FR Doc. 2012-28996 Filed 11-29-12; 8:45 am]

BILLING CODE 9110-05-P